DEPARTMENT OF EDUCATION

DEPARTMENT OF HEALTH AND HUMAN SERVICES

Applications for New Awards; Preschool Development Grants—Expansion Grants

AGENCY: Department of Education and Department of Health and Human Services.

ACTION: Notice.

Overview Information: Preschool Development Grants—Expansion Grants Notice inviting applications for new awards for fiscal year (FY) 2014.

Catalog of Federal Domestic Assistance (CFDA) Number: 84.419B.

DATES: Applications Available: August 18, 2014.

Deadline for Notice of Intent to Apply: September 11, 2014.

Note: Submission of a notice of intent to apply is optional.

Deadline for Transmittal of Applications: October 14, 2014.

Full Text of Announcement

I. Funding Opportunity Description

Purpose of Program: The purpose of the Preschool Development Grants program, which is jointly administered by the Departments of Education and Health and Human Services (Departments), is to support State and local efforts to build, develop, and expand High-Quality Preschool Programs ¹ so that more children from low- and moderate-income families enter kindergarten ready to succeed in school and in life. All States, the District of Columbia, and Puerto Rico are eligible to apply for either a Preschool Development Grants—Development Grant or a Preschool Development Grants—Expansion Grant.

¹ Defined terms are used throughout the notice and are indicated by capitalization.

Preschool Development Grants—Expansion Grants will support States that have robust State Preschool Programs or that have been awarded a Race to the Top—Early Learning Challenge grant. These grants will be awarded to States to implement and sustain High-Quality Preschool Programs that reach and serve additional Eligible Children in two or more High-Need Communities. States will also be able to use a portion of their funds to make preschool program infrastructure and quality improvements needed to deliver High-Quality Preschool Programs. The States eligible to apply for a Preschool Development Grants—Expansion Grant are Arkansas, California, Colorado, Connecticut, Delaware, District of Columbia, Florida, Georgia, Illinois, Iowa, Kansas, Kentucky, Louisiana, Maine, Maryland, Massachusetts, Michigan, Minnesota, Nebraska, New Jersey, New Mexico, New York, North Carolina, Ohio, Oklahoma, Oregon, Pennsylvania, Rhode Island, South Carolina, Tennessee, Texas, Vermont, Virginia, Washington, West Virginia, and Wisconsin.

Preschool Development Grants—Development Grants will support States with either small or no State Preschool Programs. These grants will be awarded to States to develop or enhance preschool program infrastructure and capacity to deliver High-Quality Preschool Programs. These States will be expected to implement and sustain High-Quality Preschool Programs to reach and serve additional Eligible Children in one or more High-Need Communities. The States eligible to apply for a Preschool Development Grants—Development Grant are Alabama, Alaska, Arizona, Hawaii, Idaho, Indiana, Mississippi, Missouri, Montana, Nevada, New Hampshire, North Dakota, Puerto Rico, South Dakota, Utah, and Wyoming.

Background and Program Overview:

Preschool Development Grants—Expansion Grants

Strong and consistent evidence demonstrates that participation in high-quality early learning programs can lead to both short- and long-term positive outcomes for all children, but especially children from low-income families.² Research has shown the multiple benefits of attending preschool programs that are of high-quality, including increased school readiness, lower rates of grade retention and special education placements, improved high school graduation rates, reduced interaction with law enforcement, and higher rates of college attendance and completion.³

² Yoshikawa, H., Weiland, C., Brooks-Gunn, J., Burchinal, M., Espinosa, L., Gormley, W., Ludwig, J.O., Magnuson, K.A., Phillips, D.A., & Zaslow, M.J. (2013). Investing in Our Future: The Evidence Base on Preschool Education. New York: Foundation for Child Development and Ann Arbor, MI: Society for Research in Child Development. Available at: http://fcd-us.org/sites/default/files/Evidence%20Base%20on%20Preschool%20Education%20FINAL.pdf.

³ Barnett, W.S. (2008). Preschool Education and Its Lasting Effects: Research and Policy Implications. Boulder and Tempe: Education and the Public Interest Center & Education Policy Research Unit. Available at: http://nieer.org/resources/research/PreschoolLastingEffects.pdf.

We also know that children from low-income families, on average, start kindergarten 12 to 14 months behind their peers in pre-reading and language skills.⁴ Results from the “Early Childhood Longitudinal Study, Kindergarten Class of 2010-11,” indicate that children's performance in reading and math were lowest for kindergartners in households with incomes below the Federal Poverty Line and highest for those in households with incomes at or above 200 percent of the Federal Poverty Line.⁵ Increasing access to High-Quality Preschool Programs, particularly for at-risk children from low-income families, can help close, or even prevent, these achievement gaps prior to kindergarten entry.

⁴ Committee on Integrating the Science of Early Childhood Development (2000). From Neurons to Neighborhoods: The Science of Early Childhood Development. Jack P. Shonkoff and Deborah A. Phillips, eds. Board on Children, Youth, and Families, Commission on Behavioral and Social Sciences and Education. Washington, DC: National Academy Press.

⁵ Mulligan, G.M., Hastedt, S., and McCarroll, J.C. (July, 2012). First-Time Kindergartners in 2010-11: First Findings From the Kindergarten Rounds of the Early Childhood Longitudinal Study, Kindergarten Class of 2010-11 (ECLS-K:2011) (NCES 2012-049). U.S. Department of Education. Washington, DC: National Center for Education Statistics. Available at: http://nces.ed.gov/pubsearch/.

The Consolidated Appropriations Act, 2014 (Pub. L. 113-76) provided $250 million for competitive grants to States for improving early childhood care and education, and help States develop, enhance, and expand preschool programs that are of high-quality. Of this amount, the Departments expect to dedicate approximately $160 million to Preschool Development Grants—Expansion Grants and $80 million to Preschool Development Grants—Development Grants. As explained more fully elsewhere in the notice, we are waiving notice-and-comment rulemaking for these competitions to ensure timely awards. However, the Departments welcomed comments from the public on the priorities, requirements, definitions, and selection criteria for this funding opportunity through a dedicated Web site and a public hearing. In all, the Departments received over 600 individual comments to consider as we drafted this notice to be consistent with the language in the Consolidated Appropriations Act, 2014, and accompanying report.⁶

⁶ http://www2.ed.gov/programs/preschooldevelopmentgrants/resources.html.

In this notice, we announce the priorities, requirements, definitions, and selection criteria that the Departments will use in the FY 2014 Preschool Development Grants—Expansion Grants competition. We announce the priorities, requirements, definitions, and selection criteria that we will use in the FY 2014 Preschool Development Grants—Development Grants competition in a separate notice inviting applications published elsewhere in this issue of the Federal Register.

The Departments will make Preschool Development Grants—Expansion Grants on a competitive basis to States to (1) implement and sustain High-Quality Preschool Programs that reach and serve additional Eligible Children in two or more High-Need Communities; and (2) enhance preschool program infrastructure and capacity to deliver High-Quality Preschool Programs. For Preschool Development Grants—Expansion Grants, States may allocate up to five percent of the total Federal funds over the grant period for State-level infrastructure. The remainder of the Federal funds must be subgranted to Early Learning Providers in two or more High-Need Communities.

We intend High-Quality Preschool Programs to be delivered through a mixed-delivery system of providers that includes schools, licensed child care centers, Head Start programs, and community-based organizations. Preschool programs funded by the Preschool Development Grants program must meet program quality standards, including, at a minimum, the elements outlined in the definition of a “High-Quality Preschool Program,” such as high staff qualifications, low child-staff ratios and small class sizes, a Full-Day program, and Comprehensive Services for children. Though encouraged, other preschool programs within the State will not be required to meet these same criteria.

A State's application must include an ambitious and achievable plan covering a project period of up to four years. Depending on the availability of funds, the Departments will make continuation awards for years two, three, and four of the project period. The State's ambitious and achievable plan must describe, among other things, how the State will expand access to High-Quality Preschool Programs to children at or below 200 percent of the Federal Poverty Line; the applicant's strategy for ensuring the creation of, as appropriate, new State Preschool Program slots and the improvement of existing State Preschool Program slots as described in Selection Criterion (D)(4)(b); the reasons for selecting each High-Need Community; a system for monitoring programs for continuous improvement; how Local Educational Agencies and other Early Learning Providers will establish and maintain strong partnerships; how High-Quality Preschool Programs supported under this grant will be aligned with programs and systems that serve children from birth through third grade; and how the State will maintain High-Quality Preschool Programs for children after the grant period.

Priorities: We are establishing these priorities for the FY 2014 grant competition and any subsequent year in which we make awards from the list of unfunded applicants from this competition. These priorities are established in accordance with section 437(d)(1) of the General Education Provisions Act (GEPA), 20 U.S.C. 1232(d)(1).

Absolute Priorities: These priorities are absolute priorities. Under 34 CFR 75.105(c)(3) we consider only applications that meet Absolute Priority 1 and either Absolute Priority 2 or Absolute Priority 3.

These priorities are:

Absolute Priority 1: Increasing Access to High-Quality Preschool Programs in High-Need Communities. To meet this priority, the State must demonstrate in its application how it will increase access to High-Quality Preschool Programs for Eligible Children by having an ambitious and achievable plan to—

(1) Begin serving Eligible Children no later than in year one of the grant period;

(2) Subgrant at least 95 percent of its Federal grant funds received over the grant period to one or more Subgrantees to implement and sustain voluntary, High-Quality Preschool Programs for Eligible Children in two or more High-Need Communities in the State; and

(3) Use no more than five percent of its Federal grant funds received during the grant period for State-level infrastructure and quality improvements, such as those described in selection criterion (C)(1).

Absolute Priority 2: Race to the Top—Early Learning Challenge States.

To meet this priority, an applicant must have received an award under a Race to the Top—Early Learning Challenge competition.

Note: These States are California, Colorado, Delaware, Georgia, Illinois, Kentucky, Maryland, Massachusetts, Michigan, Minnesota, New Jersey, New Mexico, North Carolina, Ohio, Pennsylvania, Rhode Island, Oregon, Vermont, Washington, and Wisconsin.

Absolute Priority 3: Non-Race to the Top—Early Learning Challenge States with More Robust State Preschool Programs.

To meet this priority, the applicant must not have received an award under a Race to the Top—Early Learning Challenge competition and serve 10 percent or more of four-year-old children in a State Preschool Program.

Note: These States are Arkansas, Connecticut, District of Columbia, Florida, Iowa, Kansas, Louisiana, Maine, Nebraska, New York, Oklahoma, South Carolina, Tennessee, Texas, Virginia, and West Virginia.⁷

Competitive Preference Priorities: These priorities are competitive preference priorities. Under 34 CFR 75.105(c)(2)(i) we award up to an additional 10 points to an application that meets Competitive Preference Priority 1 and up to an additional 10 points for an application that meets Competitive Preference Priority 2, depending on how well the application meets these competitive preference priorities. We also award an additional 10 points for an application that meets Competitive Preference Priority 3. An application can receive a maximum of 30 competitive preference priority points.

⁷ Based on current data from: Barnett, W.S., Carolan, M.E, Squires, J.H., and Clarke-Brown, K. (May 2014). State of Preschool 2013: First Look (NCES 2014-078). U.S. Department of Education. Washington, DC: National Center for Education Statistics. Available at: http://nces.ed.gov/pubsearch.

These priorities are:

Competitive Preference Priority 1: Contributing Matching Funds (up to 10 points).

Background: An applicant is not required to contribute non-Federal matching funds to support its ambitious and achievable plan. However, we will give competitive preference to applicants who address this priority and will award more points to applicants that commit to a larger matching contribution. Successful applicants that do not obtain or expend the matching funds they committed to in their applications may be subject to enforcement proceedings, including withholding of funds or denial of a continuation award.

Priority: To receive a competitive preference under this priority, the State must describe and submit appropriate evidence of a credible plan for obtaining and using non-Federal matching funds to support the implementation of its ambitious and achievable plan during the grant period. Matching funds may be comprised of State, local, and philanthropic funds and may also include increased State funding appropriated beginning in the State fiscal year prior to the first year of the grant period. Points will be awarded based on the following scale if the plan is determined to be credible:

Percentage non-Federal match of the State's four-year total award | Competitive preference points
50% or more | 10
40-49% | 8
30-39% | 6
20-29% | 4
10-19% | 2
0-9% | 0

Competitive Preference Priority 2: Supporting a Continuum of Early Learning and Development (up to 10 points).

Background: The integration of High-Quality Preschool Programs within a broader continuum of comprehensive high-quality supports and services helps to create smooth transitions for children and families to ensure continuous and consistent high-quality early learning opportunities critical to children's success. Transition services play a vital role, particularly in the transitions from infant and toddler services to preschool services, and services under part C of the Individuals with Disabilities Education Act (IDEA) (20 U.S.C. 1400 et seq.) to services under section 619 of part B of IDEA. States can support children and families through cross-sector partnerships and by leveraging resources from existing State and local agencies that provide early childhood services, including part C and section 619 of part B of IDEA, Early Head Start and Head Start, home visiting, child care, preschool programs, family supports (e.g., those that strengthen and stabilize families) and engagement resources, adult education, and housing, health, and mental health services.

Priority: To receive a competitive preference under this priority, the State must describe an ambitious and achievable plan that addresses the creation of a more seamless progression of supports and interventions from birth through third grade, such as high-quality infant and toddler care, home visitation, Full-Day kindergarten, and before- and after-care services for, at a minimum, a defined cohort of Eligible Children and their families within each High-Need Community served by each Subgrantee.

Competitive Preference Priority 3: Creating New High-Quality State Preschool Program Slots (0 or 10 points).

Background: Many States have taken note of the short- and long-term benefits of early education and have launched efforts to expand the availability of State Preschool Programs. As of 2013, 40 States and the District of Columbia have at least one State Preschool Program in place.⁸ Nevertheless, only about 28 percent of America's four-year-olds were enrolled in a State Preschool Program in the 2012-2013 school year.⁹ The high costs of private preschool programs and the lack of State Preschool Programs narrow options for families, and especially so for low-income families. In 2011, four-year-olds under 200 percent of poverty were 16 percentage-points less likely than their higher-income peers (above 200 percent) to attend any preschool program, whether public or private.¹⁰

⁸ Based on current data from: Barnett, W.S., Carolan, M.E, Squires, J.H., and Clarke-Brown, K. (May 2014). State of Preschool 2013: First Look (NCES 2014-078). U.S. Department of Education. Washington, DC: National Center for Education Statistics. Available at: http://nces.ed.gov/pubsearch.

⁹ Ibid.

¹⁰ U.S. Department of Health and Human Services ASPE tabulations from the Current Population Survey, available at: http://aspe.hhs.gov/hsp/14/EarlyCareEducation/rb_ece.cfm#_Toc373832432.

Priority: To receive a competitive preference under this priority, the State must demonstrate how it will use at least 50 percent of its Federal grant award to create new State Preschool Program slots that will increase the overall number of new slots in State Preschool Programs that meet the definition of High-Quality Preschool Programs.

Application Requirements: The following requirements apply to all applications submitted under this competition:

(a) The State's application must be signed by the Governor or an authorized representative and an authorized representative from the Lead Agency.

(b) The application must include a letter of support from an operational State Advisory Council on Early Childhood Education and Care that meets the requirements described in section 642B(b) of the Head Start Act (42 U.S.C. 9837(b)) and in paragraph (l) of the Program Requirements. If the State does not have an operational State Advisory Council, the application must include a letter of support from a similar State council on early childhood education and care established by the State's legislature or assigned the duties of the State Advisory Council on Early Childhood Education and Care by the State's Governor that meets the requirements described in section 642B(b) of the Head Start Act (42 U.S.C. 9837(b)) and in paragraph (l) of the Program Requirements. The letter must describe the council's level of support and, if applicable, participation in the grant.

(c) The State must include a budget narrative that details how it will use Federal grant funds awarded under this competition, and, if applicable, funds from other Federal, State, private, and local sources, to achieve—

(1) The goals outlined in its ambitious and achievable plan; and

(2) Its ambitious and achievable targets for increasing the number and percentage of Eligible Children who are enrolled in High-Quality Preschool Programs through, as applicable, newly created and improved State Preschool Program slots as described in selection criterion (D)(4)(b).

(d) The State must complete the Excel spreadsheets that are provided on the Preschool Development Grants Web site at www.ed.gov/programs/preschooldevelopmentgrants and upload to the Other Attachments Form in Grants.gov as explained in Part 5 of the application.

(e) The State must provide, for each selection criterion or priority in this notice that solicits an ambitious and achievable plan, a description of the following elements, at a minimum—

(1) The key goals of the plan;

(2) The key activities to be undertaken; the rationale for the activities; and, if applicable, where in the State the activities will be initially implemented, and where and how they will be scaled up over time;

(3) A realistic timeline, including key milestones, for implementing each key activity;

(4) The party or parties responsible for implementing each activity and other key personnel assigned to each activity;

(5) Appropriate financial resources to support successful implementation and sustainment of the plan;

(6) The information requested as supporting evidence, if any, together with any additional information the State believes will be helpful to peer reviewers in judging the credibility of the plan;

(7) The information requested in the performance measures, where applicable; and

(8) How the State will address the needs of Eligible Children, including those who may be in need of additional supports, such as children who have disabilities or developmental delays; who are English learners; who reside on “Indian lands” as that term is defined by section 8013(7) of the Elementary and Secondary Education Act of 1965, as amended (20 U.S.C. 6301 et seq.) (ESEA); who are migrant; who are “homeless,” as defined in subtitle VII-B of the McKinney-Vento Homeless Assistance Act (42 U.S.C. § 11434a(2)) (McKinney-Vento Act); whose families are involved in the child welfare system; who reside in rural areas; who are from military families; and other children as identified by the State, if applicable.

(f) The State must provide a letter of support or preliminary binding agreement, such as a preliminary memorandum of understanding (MOU), from each Subgrantee attesting to the Subgrantee's participation (a model MOU is provided in the Appendix B of this notice).

Program Requirements: States and each Subgrantee that receive funds under this grant program must meet the following requirements for, at a minimum, the duration of the grant period:

(a) The State must continue to participate in—

(1) The programs authorized by part C and section 619 of part B of IDEA;

(2) The Child Care and Development Fund (CCDF) program (pursuant to the Child Care and Development Block Grant Act (42 U.S.C. 9858 et seq.));

(3) The program authorized under section 418 of the Social Security Act (42 U.S.C. 618);

(4) The Maternal, Infant, and Early Childhood Home Visiting program (section 511 of title V of the Social Security Act, as amended by section 2951 of the Affordable Care Act of 2010 (Pub. L. 111-148)); and

(5) Subtitle VII-B of the McKinney-Vento Act.

(b) Funds made available under this grant must be used to supplement, not supplant, any Federal, State, or local funds (e.g., IDEA, title I, Head Start, CCDF, and any matching funds included as part of Competitive Preference Priority 2) that, in the absence of the funds awarded under this grant, would be available for improving the quality of State Preschool Programs and increasing access to High-Quality Preschool Programs.

(c) The State must participate in grantee technical assistance activities facilitated by ED or HHS, individually or in collaboration with other State grantees, to share effective program practices and solutions and collaboratively solve problems, and must set aside a minimum of $25,000 annually from its grant funds for this purpose.

(d) The State and each Subgrantee must participate in any evaluation of the State's High-Quality Preschool Program, including any cross-State evaluation, if funded by ED or HHS.

(e) The State and each Subgrantee must comply with the requirements of all applicable Federal, State, and local privacy laws, including the requirements of the Family Educational Rights and Privacy Act (20 U.S.C. 1232g), the Health Insurance Portability Accountability Act (Pub. L. 104-191), and IDEA.

(f) The State and each Subgrantee must ensure that the grant project is implemented in accordance with all applicable Federal, State, and local laws and regulations, including the provisions of Section 504 of the Rehabilitation Act of 1973 and Title II and Title III of the Americans with Disabilities Act of 1990 that prohibit discrimination on the basis of disability and require that individuals with disabilities be served in the most integrated setting appropriate to their needs.

(g) The State and each Subgrantee must provide researchers with access, consistent with the requirements of all applicable Federal, State, and local privacy laws, to available data regarding the enrollment and school readiness of Eligible Children in State Preschool Programs.

(h) Unless otherwise protected as proprietary information by Federal or State laws or a specific written agreement, the State and each Subgrantee must make any work (e.g., materials, tools, processes, systems) developed under its grant freely available to the public. Any Web sites developed under this grant must meet government or industry-recognized standards for accessibility.

(i) The State must have a Statewide Longitudinal Data System that links early childhood data with the State's kindergarten through grade 12 (K-12) data system by the end of the grant period.

(j) The State must ensure that the State Advisory Council on Early Childhood Education and Care must includes, in addition to the members of the State Advisory Council described in section 642B(b) of the Head Start Act (42 U.S.C. 9837(b)), the State's CCDF administrator, State agency coordinators from both part C and section 619 of part B of IDEA, the State Title I Director, the State Coordinator of Education for Homeless Children and Youth, State agency representatives responsible for health and mental health, and parent representatives.

(k) The State must establish policies and procedures that ensure—

(1) Collaboration between each Subgrantee and programs authorized by section 619 of part B of IDEA so that Eligible Children with disabilities in the High-Need Community are being appropriately identified and served in the least restrictive environment; and

(2) Ensure that the percentage of Eligible Children with disabilities served by the High-Quality Preschool Programs is not less than either the percentage of four-year-old children served statewide through part B, section 619 of IDEA (20 U.S.C. 1400 et seq.), or the current national average,¹¹ whichever is greater.

¹¹ Note: The current national percentage of four year-old-children receiving services through part B, section 619 of IDEA is 6.4%. Source: 2012 IDEA Part B Child Count (www.ideadata.org).

(l) The State and each Subgrantee are prohibited from spending grant funds, including any matching funds, if applicable, on construction, renovation, modernization, or related activities.

(m) For activities involved in improving existing State Preschool Program slots to meet the definition of High-Quality Preschool Programs, the State and each Subgrantee may only spend grant funds, including any matching funds, if applicable, on activities listed in selection criterion (D)(4)(b).

(n) Within 90 days of receipt of an award, the State must submit to the Departments a signed MOU (a model MOU is provided in Appendix B of this notice) or other binding agreement between the State's Lead Agency and each Subgrantee that, at a minimum—

(1) Includes a scope of work describing the portions of the State's plan that the Subgrantee will implement;

(2) Incorporates the State's ambitious and achievable plan, in particular the sections that the Subgrantee is responsible for implementing;

(3) Is signed by an authorized representative of the State's Lead Agency and the Subgrantee;

(4) Describes the roles and responsibilities of the State's Lead Agency and Subgrantee in implementing the project plan;

(5) Describes the method and process for making different types of decisions (e.g., policy, operational);

(6) Describes how the State and Subgrantee will exchange data; and

(7) Describes how the MOU can be amended.

(o) The State must submit scopes of work for the State and each Subgrantee within 90 days of the grant award notification date. These scopes of work must contain detailed work plans and budgets that are consistent with the State's grant application, and must include the State's and each Subgrantee's specific goals, activities, timelines, budgets, key personnel, and annual targets for key performance measures for the portions of the State's proposed plans that the Subgrantee is agreeing to implement.

Definitions: We are establishing the following definitions in this notice for the FY 2014 grant competition and any subsequent year in which we make awards from the list of unfunded applications from this competition, in accordance with section 437(d)(1) of GEPA, 20 U.S.C. 1231(d)(1).

These definitions are:

Comprehensive Early Learning Assessment System means a coordinated and comprehensive system of multiple assessments, each of which is valid and reliable for its specified purpose and for the population with which it will be used, that organizes information about the process and context of young children's learning and development in order to help teachers make informed instructional and programmatic decisions and that conforms with the recommendations of the National Research Council report on early childhood assessments ¹² by including, at a minimum:

¹² One example of these reports is referenced here. National Research Council (2008). Early Childhood Assessment: Why, What, and How. Committee on Developmental Outcomes and Assessments for Young Children, C.E. Snow and S.B. Van Hemel, Editors. Board on Children, Youth, and Families, Board on Testing and Assessment, Division of Behavioral and Social Sciences and Education. Washington, DC: The National Academies Press. Available at: www.nap.edu/catalog.php?record_id=12446.

(a) Screening Measures;

(b) Formative Assessments;

(c) Measures of Environmental Quality;

(d) Measures of the Quality of Adult-Child Interactions; and

(e) A Kindergarten Entry Assessment.

Comprehensive Services means services that include:

(a) Screenings for hearing, vision, dental, health (including mental health), and development, as well as referrals and assistance obtaining services, when appropriate;

(b) Culturally and linguistically responsive family engagement opportunities (taking into account home language), such as parent conferences (including parent input about their child's development) and support services, such as parent education, and leadership opportunities, such as a Parent Advisory Committee;

(c) Nutrition services, including nutritious meals and snack options aligned with requirements set by the most recent Child and Adult Care Food Program guidelines promulgated by the Department of Agriculture, as well as regular, age-appropriate, nutrition education for children and their families;

(d) Services coordinated with LEAs and early intervention service providers and other entities providing services under part C and section 619 of part B of IDEA;

(e) Physical activity services aligned with evidence-based guidelines, such as those recommended by the Institute of Medicine,¹³ and which take into account and accommodate children with disabilities;

¹³ www.iom.edu/Reports/2011/Early-Childhood-Obesity-Prevention-Policies/Recommendations.aspx.

(f) Partnerships with and linkages to community services to enhance family well-being, such as income supports, food pantries, housing, social services, and other services relating to health/mental health, domestic violence, substance abuse, adult literacy, education and training, and financial asset building;

(g) On-site coordination of services, to the maximum extent feasible; and

(h) Additional support services, determined by the State, as appropriate.

Early Learning and Development Standards means a set of expectations, guidelines, or developmental milestones that—

(a) Describes what all children from birth to kindergarten entry should know and be able to do and their disposition toward learning;

(b) Is appropriate for each age group (e.g., infants, toddlers, and preschoolers); for English learners; and for children with disabilities or developmental delays;

(c) Covers all Essential Domains of School Readiness; and

(d) Is universally designed and developmentally, culturally, and linguistically appropriate.

Early Learning Intermediary Organization means a national, statewide, regional, or community-based organization that represents one or more networks of early learning and development programs in the State and that has influence or authority over them. Such Early Learning Intermediary Organizations include, but are not limited to, child care resource and referral agencies; State Head Start associations; family child care associations; State affiliates of the National Association for the Education of Young Children; State affiliates of the Council for Exceptional Children's Division of Early Childhood; statewide or regional union affiliates that represent early childhood educators; affiliates of the National Migrant and Seasonal Head Start Association; the National Tribal, American Indian, and Alaskan Native Head Start Association; the National Indian Child Care Association; and the National Indian Education Association.

Early Learning Provider means an entity that carries out an early childhood education program, including an LEA, charter school, educational service agency, Head Start program, licensed child care provider, municipality or other local government agency, tribe or Indian organization, institution of higher education, library, museum, or other eligible licensed provider as defined by the State, or a consortium thereof.

Eligible Children means four-year-old children from families whose income is at or below 200 percent of the Federal Poverty Line.

Eligible Children with Disabilities means Eligible Children who have been determined by the local educational agency to be eligible for special education and related services under section 619 of the IDEA (20 U.S.C. 1400 et seq.)

Essential Data Elements means the critical child, program, and workforce data elements of a coordinated early learning data system, including—

(a) A unique statewide child identifier or another highly accurate, proven method to link data on that child, including Kindergarten Entry Assessment data, to and from the Statewide Longitudinal Data System and the coordinated early learning data system (if applicable);

(b) A unique statewide early childhood educator identifier;

(c) A unique program site identifier;

(d) Child and family demographic information;

(e) Early childhood educator demographic information, including data on educational attainment and State credentials or licenses held, as well as professional development information;

(f) Program-level data on the program's structure, quality, child suspension and expulsion rates, staff retention, staff compensation, work environment, and all applicable data reported as part of the State's Tiered Quality Rating and Improvement System; and

(g) Child-level program participation and attendance data.

Essential Domains of School Readiness means the domains of language and literacy development, cognition and general knowledge (including early mathematics and early scientific development), approaches toward learning (including the utilization of the arts), physical well-being and motor development (including adaptive skills), and social and emotional development.

Federal Poverty Line means a measure of income level issued annually by the Department of Health and Human Services and used to determine eligibility for certain programs and benefits.¹⁴

¹⁴ The 2014 Federal Poverty Line, also known as poverty guidelines or “Federal poverty level” (FPL), can be found at http://aspe.hhs.gov/poverty/14poverty.cfm.

Formative Assessment (also known as a classroom-based or ongoing assessment) means assessment questions, tools, and processes—

(a) That are—

(1) Specifically designed to monitor children's progress in meeting the Early Learning and Development Standards;

(2) Valid and reliable for their intended purposes and their target populations; and

(3) Linked directly to the curriculum; and

(b) The results of which are used to guide and improve instructional practices.

Full-Day means a day that is—

(a) Equivalent to a full school day at the public elementary schools in the State; and

(b) Not fewer than five hours a day.

High-Need Community means a geographically defined area, such as a city, town, county, neighborhood, district, rural or tribal area, or consortium thereof, with a high level of need as determined by the State.

High-Quality Preschool Program means an early learning program that includes structural elements that are evidence-based and nationally recognized as important for ensuring program quality, including at a minimum—

(a) High staff qualifications, including a teacher with a bachelor's degree in early childhood education or a bachelor's degree in any field with a State-approved alternate pathway, which may include coursework, clinical practice, and evidence of knowledge of content and pedagogy relating to early childhood, and teaching assistants with appropriate credentials;

(b) High-quality professional development for all staff;

(c) A child-to-instructional staff ratio of no more than 10 to 1;

(d) A class size of no more than 20 with, at a minimum, one teacher with high staff qualifications as outlined in paragraph (a) of this definition;

(e) A Full-Day program;

(f) Inclusion of children with disabilities to ensure access to and full participation in all opportunities;

(g) Developmentally appropriate, culturally and linguistically responsive instruction and evidence-based curricula, and learning environments that are aligned with the State Early Learning and Development Standards, for at least the year prior to kindergarten entry;

(h) Individualized accommodations and supports so that all children can access and participate fully in learning activities;

(i) Instructional staff salaries that are comparable to the salaries of local K-12 instructional staff;

(j) Program evaluation to ensure continuous improvement;

(k) On-site or accessible Comprehensive Services for children and community partnerships that promote families' access to services that support their children's learning and development; and

(l) Evidence-based health and safety standards.

Kindergarten Entry Assessment means an assessment that—

(a) Is administered to children during the first few months of their admission into kindergarten;

(b) Covers all Essential Domains of School Readiness;

(c) Is used in conformance with the recommendations of the National Research Council reports on early childhood; ¹⁵ and

¹⁵ One example of these reports is referenced here. National Research Council (2008). Early Childhood Assessment: Why, What, and How. Committee on Developmental Outcomes and Assessments for Young Children, C.E. Snow and S.B. Van Hemel, Editors. Board on Children, Youth, and Families, Board on Testing and Assessment, Division of Behavioral and Social Sciences and Education. Washington, DC: The National Academies Press. Available at: www.nap.edu/catalog.php?record_id=12446.

(d) Is valid and reliable for its intended purposes and for the target populations and aligned to the Early Learning and Development Standards.

Results of the assessment should be used to inform efforts to close the school-readiness gap at kindergarten entry, to inform instruction in the early elementary school grades, and to inform parents about their children's status and involve them in decisions about their children's education. This assessment must not be used to prevent children's entry into kindergarten or as a single measure for high-stakes decisions.

Lead Agency means a State-level agency that administers public funds related to early learning and development and is participating in the State's ambitious and achievable plan; this agency is designated by the Governor for the administration of the Preschool Development Grants funds and is the fiscal agent for the grant.

Local Educational Agency (LEA) has the meaning given the term in section 9101 of the ESEA.

Measures of Environmental Quality means valid and reliable indicators of the overall quality of the early learning environment.

Measures of the Quality of Adult-Child Interactions means the measures obtained through valid and reliable processes for observing how teachers and caregivers interact with children, where such processes are designed to promote child learning and to identify strengths of and areas for improvement for early learning professionals.

Program Standards means the standards that serve as the basis for a TQRIS and define differentiated levels of quality for Early Learning and Development Programs. Program Standards must measure, at a minimum, the extent to which—

(a) Early Learning and Development Standards are implemented through evidence-based activities, interventions, or curricula that are appropriate for each age group of infants, toddlers, and preschoolers;

(b) Comprehensive Early Learning Assessment Systems are used routinely and appropriately to improve instruction and enhance program quality by providing robust and coherent evidence of—

(1) Children's learning and development outcomes; and

(2) Program performance;

(c) A qualified workforce improves young children's health, social, emotional, and educational outcomes;

(d) Culturally and linguistically responsive strategies are successfully used to engage families, help them build protective factors, and strengthen their capacity to support their children's development and learning. These strategies may include, but are not limited to, parent access to the program, ongoing two-way communication with families, parent education in child development, outreach to fathers and other family members, training and support for families as children move to preschool and kindergarten, social networks of support, intergenerational activities, linkages with community supports, adult and family literacy programs, parent involvement in decision making, and parent leadership development;

(e) Health promotion practices include health and safety requirements; developmental, behavioral, and sensory screening, referral, and follow up; the promotion of physical activity, healthy eating habits, oral health, and behavioral health; and health literacy of parents; and

(f) Data practices are effective and include gathering Essential Data Elements and entering them into the State's Statewide Longitudinal Data System or other early learning data system, using these data to guide instruction and program improvement, and making this information readily available to families.

Screening Measures means age and developmentally appropriate, valid, and reliable instruments that are used to identify children who may need follow-up services to address developmental, learning, or health needs in, at a minimum, the areas of physical health, behavioral health, oral health, child development, vision, and hearing.

State means any of the 50 States, the District of Columbia, and Puerto Rico.

State Preschool Program means a preschool program predominately supported with State funds that provides services to four-year-old children, including a State Head Start program.

Statewide Longitudinal Data System means the State's longitudinal education data system that collects and maintains detailed, high-quality, student- and staff-level data that are linked across entities and that over time provide a complete academic and performance history for each student. The Statewide Longitudinal Data System is typically housed within the State educational agency but includes or can be connected to early childhood, postsecondary, and labor data.

Subgrantee means an Early Learning Provider serving at least one High-Need Community that is receiving a subgrant from the State, and is participating in the State's ambitious and achievable plan.

Tiered Quality Rating and Improvement System (TQRIS) means the system through which the State uses a set of progressively higher Program Standards to evaluate the quality of an early learning and development program and to support program improvement. A Tiered Quality Rating and Improvement System consists of four components:

(a) Tiered Program Standards with multiple rating categories that clearly and meaningfully differentiate program quality levels.

(b) Monitoring to evaluate program quality based on the Program Standards.

(c) Supports to help programs meet progressively higher standards (e.g., through training, technical assistance, financial support).

(d) Program quality ratings that are publicly available and include a process for validating the system.

Waiver of Proposed Rulemaking:

Under the Administrative Procedure Act (5 U.S.C. 553) we generally offer interested parties the opportunity to comment on proposed priorities, requirements, definitions, and selection criteria. Section 437(d)(1) of GEPA, however, allows the Secretary of Education to exempt from rulemaking requirements governing the first grant competition under a new or substantially revised program authority. This is the first grant competition for this program under the revised program authority in sections 14005 and 14006 of the ARRA, as amended by the Department of Education Appropriations Act, 2014 (title III of division H of Pub. L. 113-76, the Consolidated Appropriations Act, 2014), and therefore qualifies for this exemption. In order to ensure timely grant awards, the Secretaries have decided to forgo public comment under the waiver authority in section 437(d)(1) of GEPA. These priorities, selection criteria, requirements, and definitions will apply to the FY 2014 grant competition and any subsequent year in which we make awards from the list of unfunded applicants from this competition.

Program Authority: Sections 14005 and 14006 of the ARRA, as amended by section 1832(b) of division B of the Department of Defense and Full-Year Continuing Appropriations Act, 2011 (Pub. L. 112-10), the Department of Education Appropriations Act, 2012 (title III of division F of Pub. L. 112-74, the Consolidated Appropriations Act, 2012), and the Department of Education Appropriations Act, 2014 (title III of division H of Pub. L. 113-76, the Consolidated Appropriations Act, 2014).

Applicable Regulations: (a) The Education Department General Administrative Regulations (EDGAR) in 34 CFR parts 74, 75, 77, 79, 80, 81, 82, 84, 86, 97, 98, and 99. (b) The Education Department debarment and suspension regulations in 2 CFR part 3485.

II. Award Information

Type of Award: Discretionary grants.

Estimated Available Funds: $160 million.

Contingent upon the availability of funds and the quality of applications, we may make additional awards in FY 2015 or subsequent fiscal years from the list of unfunded applicants from this competition.

The Departments may use any unused FY 2014 funds from the Preschool Development Grants—Expansion Grants competition in the FY 2014 Preschool Development Grants—Development Grants competition. Conversely, the Departments may use any unused FY 2014 funds from the Preschool Development Grants—Development Grants competition in the FY 2014 Preschool Development Grants—Expansion Grants competition.

Estimated Range of Awards: $10 million to $35 million.

Budget Requirements: To support States in planning their budgets, the Departments have developed the following annual budget caps for each State eligible for a Preschool Development Grants—Expansion Grant. We will not consider for funding an application from a State that proposes a budget in any year that exceeds the applicable cap set for that State. The Departments developed the following categories by ranking every State eligible for a Preschool Development Grants—Expansion Grant according to its relative share of Eligible Children who could be served by Preschool Development Grants—Expansion Grants and then identifying the natural breaks in the rank order. Then, based on population of Eligible Children,¹⁶ budget caps were developed for each category.

¹⁶ http://www2.ed.gov/programs/preschooldevelopmentgrants/4-year-old-poverty-status-2012.pdf.

Category 1—up to $35M—California;

Category 2—up to $30M—Texas;

Category 3—up to $25M—Florida, New York;

Category 4—up to $20M—Georgia, Illinois, Michigan, North Carolina, Ohio, and Pennsylvania;

Category 5—up to $17.5M—New Jersey, South Carolina, Tennessee, Virginia, and Washington;

Category 6—up to $15M—Arkansas, Colorado, Kansas, Kentucky, Louisiana, Maryland, Massachusetts, Minnesota, Oklahoma, Oregon, and Wisconsin;

Category 7—up to $12.5M—Connecticut, Iowa, Maine, Nebraska, New Mexico, and West Virginia;

Category 8—up to $10M—Delaware, District of Columbia, Rhode Island, and Vermont.

Estimated Number of Awards: 7 to 12 awards.

Note: The Departments are not bound by any estimates in this notice.

Project Period: Up to 48 months.

III. Eligibility Information

1. Eligible Applicants: To be eligible to compete for funding under this program a State must—

(a) Serve 10 percent or more of four-year-old children in a State Preschool Program; ¹⁷ or

¹⁷ Based on current data from: Barnett, W.S., Carolan, M.E, Squires, J.H., and Clarke-Brown, K. (May 2014). State of Preschool 2013: First Look (NCES 2014-078). U.S. Department of Education. Washington, DC: National Center for Education Statistics. Available at: http://nces.ed.gov/pubsearch.

(b) Have received an award under a Race to the Top—Early Learning Challenge competition.

Therefore, only the States of Arkansas, California, Colorado, Connecticut, Delaware, District of Columbia, Florida, Georgia, Illinois, Iowa, Kansas, Kentucky, Louisiana, Maine, Maryland, Massachusetts, Michigan, Minnesota, Nebraska, New Jersey, New Mexico, New York, North Carolina, Ohio, Oklahoma, Oregon, Pennsylvania, Rhode Island, South Carolina, Tennessee, Texas, Vermont, Virginia, Washington, West Virginia, and Wisconsin are eligible to apply for Preschool Development Grants—Expansion Grants.

2. Cost Sharing or Matching: This program does not require cost sharing or matching. However, applicants that describe and submit appropriate evidence of a credible plan for obtaining and using non-Federal matching funds to support the implementation of its ambitious and achievable plan during the grant period may be awarded additional points on a sliding scale as described in Competitive Preference Priority 1.

3. Supplement-Not-Supplant: This program involves supplement-not-supplant funding requirements, as described in Program Requirement (b).

IV. Application and Submission Information

1. Address To Request Application Package: You can obtain an application package via the Internet or from the Departments. To obtain a copy via the Internet, use the following address: www.ed.gov/programs/preschooldevelopmentgrants. To obtain a copy from the Departments, write, fax, call, or email: Rebecca Marek, U.S. Department of Education, 400 Maryland Avenue SW., Room 3E344, Washington, DC 20202-6200. Telephone: (202) 260-0968. FAX: (202) 260-8969. Email: PreschoolDevelopmentGrants.Competition@ed.gov.

If you use a telecommunications device for the deaf (TDD) or a text telephone (TTY), call the Federal Relay Service (FRS), toll free, at 1-800-877-8339.

Individuals with disabilities can obtain a copy of the application package in an accessible format (e.g., braille, large print, audiotape, or compact disc) by contacting the program contact person listed under Accessible Format in section VIII of this notice.

2. Content and Form of Application Submission: Requirements concerning the content of an application, together with the forms you must submit, are in the application package for this competition.

Page Limit: The application narrative is where the applicant addresses the selection criteria that reviewers will use to evaluate applications. We recommend that the applicant limit its narrative responses to no more than 75 pages and limit its appendices to no more than 125 pages. We strongly request that applicants follow the recommended page limits. The following standards are recommended:

• A “page” is 8.5″ × 11″, on one side only, with 1″ margins at the top, bottom, and both sides.

• Each page is numbered.

• Line spacing is set to 1.5 spacing, and the font used is 12-point Times New Roman.

3. Submission Dates and Times:

Applications Available: August 18, 2014.

Deadline for Notice of Intent To Apply: September 11, 2014.

We will be able to develop a more efficient process for reviewing grant applications if we know the approximate number of applicants that intend to apply for funding under this competition. Therefore, the Departments strongly encourage each potential applicant to notify us of the applicant's intent to submit an application for funding by emailing Rebecca Marek at PreschoolDevelopmentGrants.Competition@ed.gov by September 11, 2014. This short email message should provide (1) the name of the State applying and (2) the contact person (name, phone number, and email). Applicants that do not submit an “Intent to Apply” email may still apply for funding.

To assist States in preparing the application and to respond to questions, ED and HHS intend to broadcast a Technical Assistance Planning Webinar live at http://edstream.ed.gov to review the priorities, requirements, and selection criteria for this competition. The purpose of the Webinar will be to allow individuals responsible for developing applications to review with Federal program staff the priorities, requirements, and selection criteria for this competition and to ask questions about the Preschool Development Grants—Development Grants competition. We strongly encourage all interested State applicants to participate in the Webinar. For those who cannot attend the live Webinar, a link to the Webinar will be available on the Preschool Development Grants Web site at www.ed.gov/programs/preschooldevelopmentgrants. The Departments may host additional conference calls, workshops, or Webinars to answer applicant questions and will be posting Frequently Asked Questions and responses on the Preschool Development Grant Web site. The Departments will make available all registration information and additional details for the Technical Assistance Planning Webinar and any other technical assistance events on the Preschool Development Grants Web site at www.ed.gov/programs/preschooldevelopmentgrants.

Deadline for Transmittal of Applications: October 14, 2014.

Applications for grants under this competition must be submitted electronically using the Grants.gov Apply site (Grants.gov). For information (including dates and times) about how to submit your application by mail or hand delivery, please refer to section IV. 7. Other Submission Requirements of this notice.

We do not consider an application that does not comply with the deadline requirements.

We will provide Congress with the names of the States that have submitted applications, and we will post the names of these States on ED's Web site. We will also post all applications submitted. Therefore, please ensure that your application does not include personally identifiable information, proprietary information, or other non-public information.

Individuals with disabilities who need an accommodation or auxiliary aid in connection with the application process should contact the person listed under FOR FURTHER INFORMATION CONTACT in section VII of this notice. If the Departments provide an accommodation or auxiliary aid to an individual with a disability in connection with the application process, the individual's application remains subject to all other requirements and limitations in this notice.

4. Intergovernmental Review: This program is subject to Executive Order 12372 and the regulations in 34 CFR part 79. However, under 34 CFR 79.8(a), we waive intergovernmental review in order to make awards by December 31, 2014.

5. Funding Restrictions: We specify unallowable costs in paragraphs (l) and (m) of the Program Requirements in this notice.

We reference additional regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Departments and, if you are awarded a grant, during the project period.

You can obtain a DUNS number from Dun and Bradstreet. A DUNS number can be created within one to two business days.

If you are a corporate entity, agency, institution, or organization, you can obtain a TIN from the Internal Revenue Service. If you are an individual, you can obtain a TIN from the Internal Revenue Service or the Social Security Administration. If you need a new TIN, please allow 2-5 weeks for your TIN to become active.

The SAM registration process can take approximately seven business days, but may take upwards of several weeks, depending on the completeness and accuracy of the data entered into the SAM database by an entity. Thus, if you think you might want to apply for Federal financial assistance under this program administered by the Departments, please allow sufficient time to obtain and register your DUNS number and TIN. We strongly recommend that you register early.

Note: Once your SAM registration is active, you will need to allow 24 to 48 hours for the information to be available in Grants.gov and before you can submit an application through Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html. In addition, if you are submitting your application via Grants.gov, you must (1) be designated by your organization as an Authorized Organization Representative (AOR); and (2) register yourself with Grants.gov as an AOR. Details on these steps are outlined at the following Grants.gov Web page: www.grants.gov/applicants/get_registered.jsp.

7. Other Submission Requirements: Applications for grants under this program [competition] must be submitted electronically unless you qualify for an exception to this requirement in accordance with the instructions in this section.

a. Electronic Submission of Applications.

Applications for grants under the Preschool Development Grants—Expansion Grants, CFDA number 84.419B, must be submitted electronically using the Government wide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement. You may access the electronic grant application for Preschool Development Grants—Expansion Grants at www.Grants.gov. You must search for the downloadable application package for this program [competition] by the CFDA number. Do not include the CFDA number's alpha suffix in your search (e.g., search for 84.419, not 84.419B).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this program [competition] to ensure that you submit your application in a timely manner to the Grants.gov system. You can also find the Education Submission Procedures pertaining to Grants.gov under News and Events on the Department's G5 system home page at http://www.G5.gov.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material. Additional, detailed information on how to attach files is in the application instructions.]

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because--

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Rebecca Marek, U.S. Department of Education, 400 Maryland Avenue SW., Room 3E344, Washington, DC 20202-6200.

FAX: (202) 260-8969.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: CFDA Number 84.419A, LBJ Basement Level 1, 400 Maryland Avenue SW., Washington, DC 20202-4260.

If we receive an application after the application deadline, we will not consider that application.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery:

If you qualify for an exception to the electronic submission requirement, you (or a courier service) may deliver your paper application to the Department by hand. You must deliver the original and two copies of your application by hand, on or before the application deadline date, to the Department at the following address: U.S. Department of Education, Application Control Center, Attention: CFDA Number 84.419A, 550 12th Street SW., Room 7039, Potomac Center Plaza, Washington, DC 20202-4260.

The Application Control Center accepts hand deliveries daily between 8:00 a.m. and 4:30:00 p.m., Washington, DC time, except Saturdays, Sundays, and Federal holidays.

In accordance with EDGAR § 75.216(b) and (c), an application will not be evaluated for funding if the applicant does not comply with all of the procedural rules that govern the submission of the application or the application does not contain the information required under the program.

Note for Mail or Hand Delivery of Applications: When you mail or hand deliver your application to the Departments—

(1) You must indicate on the envelope the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are set forth in sections (A)-(G). We also identify for each selection criterion any evidence that applicants must submit that is not already identified in the selection criterion. We will use the following selection criteria to evaluate applications submitted under the Preschool Development Grants—Development Grant competition. The maximum score for all the selection criteria and competitive preference priorities is 232 points. The maximum score for each selection criterion is indicated in parentheses. The reviewers will utilize the scoring rubric located in Appendix A of this notice when evaluating applications under the selection criteria:

A. Executive Summary (10 points).

The extent to which the State includes an ambitious and achievable plan for expanding access to High-Quality Preschool Programs that clearly articulates how the plans proposed under each criterion in this section, when taken together, will—

(1) Build on the State's progress to date as demonstrated in selection criterion (B);

(2) Provide voluntary, High-Quality Preschool Programs for Eligible Children through subgrants to each Subgrantee in two or more High-Need Communities;

(3) Increase the number and percentage of Eligible Children served in High-Quality Preschool Programs during each year of the grant period through the creation of new, and the improvement of existing State Preschool Program slots, as applicable;

(4) Have all the characteristics specified in the definition of High-Quality Preschool Programs;

(5) Set expectations for the school readiness of children upon kindergarten entry;

(6) Be supported by a broad group of stakeholders, including Early Learning Intermediary Organizations and, if applicable, State and local early learning councils; and

(7) Allocate funds between—

(a) Activities to build or enhance State Preschool Program infrastructure using no more than five percent of its Federal grant funds received over the grant period on State-level infrastructure including, but not limited to, monitoring and evaluation and other quality-enhancing activities that improve the delivery of High-Quality Preschool Programs to Eligible Children; and

(b) Subgrants to Early Learning Providers to implement voluntary, High-Quality Preschool Programs for Eligible Children in one or more High-Need Communities, including how it will—

(i) Provide High-Quality Preschool Programs to Eligible Children no later than the end of year one of the grant period;

(ii) Subgrant at least 95 percent of its Federal grant funds to its Subgrantee or Subgrantees over the grant period; and

(iii) Support each Subgrantee in culturally and linguistically appropriate outreach and communication efforts in order to ensure that all families, including those who are isolated or otherwise hard to reach, are informed of the opportunity and encouraged to enroll their children in available programs.

Evidence for selection criterion (A):

• (A)(3) and (A)(7) Information contained in Table A for the number of Eligible Children to be served each year of the grant and the number and percentage of State Preschool Program slots (See Table A in the Excel spreadsheets).

• (A)(4) Documentation of the structural elements in the definition of High-Quality Preschool Program.

• (A)(5) Set of expectations for school readiness.

• (A)(6) Letters of support from stakeholders, including Early Learning Intermediary Organizations and, if applicable, State and local early learning councils.

• Any other supporting evidence the State believes will be helpful to peer reviewers.

B. Commitment to State Preschool Programs (20 points)

The extent to which the State has demonstrated its commitment to develop or enhance the State Preschool Program infrastructure and its capacity to both deliver and increase access to High-Quality Preschool Programs for Eligible Children, as evidenced by—

(1) State Early Learning and Development Standards (2 points);

(2) The State's financial investment, if any, and the estimated number and percentage of children, including if known, the estimated number and percentage of Eligible Children, served in State Preschool Programs over the last four years (6 points);

(3) Enacted and pending legislation, policies, or practices that demonstrate the State's current and future commitment to increasing access to High-Quality Preschool Programs for Eligible Children (4 points);

(4) The quality of existing State Preschool Programs, as evidenced by policies and program data that demonstrate the State's commitment to the components of a High-Quality Preschool Program; compliance with Program Standards; and support for program monitoring and improvement, which may be accomplished through the use of a TQRIS (4 points);

(5) The State's coordination of preschool programs and services, in partnership with its Early Learning Advisory Council, with other State and Federal resources that may be used to serve preschool-aged children, including, if applicable, programs and services supported by title I of the ESEA, part C and section 619 of part B of IDEA, subtitle VII-B of the McKinney-Vento Act, the Head Start Act (42 U.S.C. 9831 et seq.), and the Child Care and Development Block Grant Act of 1990 (42 U.S.C. 9858 et seq.) (2 points); and

(6) The State's role in promoting coordination of preschool programs and services at the State and local levels with other sectors that support the early learning and development of children, including child health, mental health, family support, nutrition, child welfare, and adult education and training sectors (2 points).

Evidence for selection criterion (B):

• (B)(1) Executive summary or brief description of the State's Early Learning and Development Standards, including how the definition is met.

• (B)(2) Completed Table B that describes the State's financial investment and number of children served in State Preschool Programs (See Table B in the Excel Spreadsheets).

• (B)(3) Evidence of enacted and pending legislation, policies, or practices.

• Any other supporting evidence the State believes will be helpful to peer reviewers.

C. Ensuring Quality in Preschool Programs (30 points).

The extent to which the State has an ambitious and achievable plan to ensure program quality, including a description of how the State will (8 points)—

(1) Use no more than five percent of the funds received over the grant period for State Preschool Program infrastructure and quality improvements at the State level through activities such as—

(a) Enhancing or expanding Early Learning and Development Standards;

(b) Implementing Program Standards consistent with a High-Quality Preschool Program;

(c) Supporting programs in meeting the needs of children with disabilities and English learners, including in workforce development;

(d) Conducting a needs assessment to determine the current availability of High-Quality Preschool Programs, including private and faith-based providers and Head Start programs;

(e) Establishing or upgrading preschool teacher education and licensure requirements;

(f) Improving teacher and administrator early education training programs and professional development;

(g) Implementing a Statewide Longitudinal Data System to link preschool and elementary and secondary school data;

(h) Implementing a Comprehensive Early Learning Assessment System;

(i) Building preschool programs' capacity to engage parents in decisions about their children's education and development, help families build protective factors, and help parents support their children's learning at home;

(j) Building State- and community-level support for High-Quality Preschool Programs through systemic linkages to other early learning programs and resources to support families, such as child health, mental health, family support, nutrition, child welfare, and adult education and training sectors; and

(k) Other activities that would support the delivery of High-Quality Preschool Programs to Eligible Children.

(2) Implement a system for monitoring and supporting continuous improvement for each Subgrantee to ensure that each Subgrantee is providing High-Quality Preschool Programs (which may be accomplished through the use of leveraging a TQRIS and other existing monitoring systems), including the extent to which the State (10 points)—

(a) Has the capacity to measure preschool quality, including parent satisfaction measures, and provide performance feedback to inform and drive State and local continuous program improvement efforts;

(b) Is using a Statewide Longitudinal Data System that is able to track student progress from preschool through third grade; and

(c) Clearly specifies the measureable outcomes, including school readiness, to be achieved by the program.

(3) Measure the outcomes of participating children across the five Essential Domains of School Readiness during the first few months of their admission into kindergarten using an assessment or assessments, such as a Kindergarten Entry Assessment, to achieve the purposes for which the assessment was developed and that conform with the recommendations of the National Research Council report on early childhood assessments (12 points).¹⁸

¹⁸ One example of these reports is referenced here. National Research Council (2008). Early Childhood Assessment: Why, What, and How. Committee on Developmental Outcomes and Assessments for Young Children, C.E. Snow and S.B. Van Hemel, Editors. Board on Children, Youth, and Families, Board on Testing and Assessment, Division of Behavioral and Social Sciences and Education. Washington, DC: The National Academies Press. Available at: www.nap.edu/catalog.php?record_id=12446.

Evidence for selection criterion (C):

• (C)(2)(a) Evidence of a monitoring protocol used to drive continuous program improvement.

• (C)(2)(c) Evidence of State targets with measurable outcomes, including school readiness achieved by the program.

• Any other supporting evidence the State believes will be helpful to peer reviewers.

D. Expanding High-Quality Preschool Programs in Each High-Need Community (60 points)

The extent to which the State articulates an ambitious and achievable plan for expanding High-Quality Preschool Programs in two or more High-Need Communities, including a description of how—

(1) The State has selected each Subgrantee and each High-Need Community that will be served, including a description of each High-Need Community and its geographic diversity, such as whether the community is located in a rural or tribal area, and whether it is located in a federally designated Promise Zone ¹⁹ (8 or 6 points).

¹⁹ The first five Promise Zones are located in San Antonio, Texas (Eastside Neighborhood); Philadelphia, Pennsylvania (West Philadelphia); Los Angeles, California (Neighborhoods of Pico Union, Westlake, Koreatown, Hollywood, and East Hollywood); Southeastern Kentucky (Kentucky Highlands); and the Choctaw Nation of Oklahoma. For additional information on Promise Zones, see www.whitehouse.gov/the-press-office/2014/01/08/fact-sheet-president-obama-s-promise-zones-initiative.

Note: Applicants that have federally designated Promise Zones in their States as of July 31, 2014 must propose to serve and coordinate with a High-Need Community located in that Promise Zone in order to be eligible for up to the full 8 points under sub-criterion (D)(1). If they do not propose to serve and coordinate with a High-Need Community in that Promise Zone, they are eligible for up to 6 points under this sub-criterion. Applicants that do not have federally designated Promise Zones in their State are eligible for up to the full 8 points under this sub-criterion.

(2) Each High-Need Community is currently underserved, including the number and percentage of four-year-olds in State Preschool Programs and other publically funded preschool programs (8 points).

(3) The State conducted outreach, including consultation with tribes, if applicable, to potential Subgrantees and the process used in selecting each Subgrantee (4 points).

(4) The State will subgrant at least 95 percent of its Federal grant award over the grant period to its Subgrantee or Subgrantees to implement and sustain voluntary, High-Quality Preschool Programs in two or more High-Need Communities, and—

(a) Set ambitious and achievable annual targets for the number and percentage of additional Eligible Children to be served during each year of the grant period through, as applicable, the (16 points); and

(b) Incorporate in their plan (12 points):

(i) Ambitious expansion of the number of new slots in State Preschool Programs that meet the definition of High-Quality Preschool Program; and

(ii) Ambitious improvement of existing State Preschool Program slots to bring them to the level of a High-Quality Preschool Program by extending programs from half-day to Full-Day; limiting class size and decreasing child to staff ratios; employing and compensating a teacher with a bachelor's degree; providing in-service, evidence-based professional development such as coaching; or providing Comprehensive Services.

Note: Applicants may receive up to the full 12 points if they address only (D)(4)(b)(i) or (D)(4)(ii) or if they address both (D)(4)(i) and (ii);

(5) The State, in coordination with each Subgrantee, intends to sustain High-Quality Preschool Programs after the grant period, including any non-Federal support that the State or each Subgrantee commits to contribute (12 points).

Evidence for selection criterion (D):

• A letter of support or preliminary binding agreement, such as a preliminary MOU, from each Subgrantee attesting to the Subgrantee's participation.

• Table (D)(4) and Table A (See Tables (D)(4) and A in the Excel spreadsheets).

• Any other supporting evidence the State believes will be helpful to peer reviewers.

E. Collaborating With Each Subgrantee and Ensuring Strong Partnerships (50 points)

The extent to which the State has an ambitious and achievable plan to ensure that each Subgrantee is effectively implementing High-Quality Preschool Programs, including a description of—

(1) The roles and responsibilities of the State and Subgrantee in implementing the project plan (2 points).

(2) How the State plans to implement High-Quality Preschool Programs, including the organizational capacity and existing infrastructure of the Subgrantee to provide High-Quality Preschool Programs, either directly or indirectly through an Early Learning Provider or Providers, and coordinate the delivery of High-Quality Preschool Programs (6 points).

(3) How the State will ensure that each Subgrantee minimizes local administrative costs (2 points).

(4) How the State and Subgrantee will monitor the Early Learning Providers to ensure they are delivering High-Quality Preschool Programs (4 points).

(5) How the State and the Subgrantee will coordinate plans related to assessments, data sharing, instructional tools, family engagement, cross-sector and comprehensive services efforts, professional development, and workforce and leadership development (4 points).

(6) How the State and Subgrantee will coordinate, but not supplant, the delivery of High-Quality Preschool Programs funded under this grant with existing services for preschool-aged children including, if applicable, State Preschool Programs and programs and services supported through title I of the ESEA, part C and section 619 of part B of IDEA, subtitle VII-B of the McKinney-Vento Act, the Head Start Act, and the Child Care and Development Block Grant Act (6 points).

(7) How the Subgrantee will integrate, to the extent practicable, High-Quality Preschool Programs for Eligible Children within economically diverse, inclusive settings, including those that serve children from families with incomes above 200 percent of the Federal Poverty Line (6 points).

(8) How the Subgrantee will deliver High-Quality Preschool Programs to Eligible Children, including Eligible Children who may be in need of additional supports, such as those who have disabilities or developmental delays; who are English learners; who reside on “Indian lands” as that term is defined by section 8013(7) of the ESEA; who are migrant; who are “homeless,” as defined in subtitle VII-B of the McKinney-Vento Act; who are in the child welfare system; who reside in rural or tribal areas; who are from military families; and other children as identified by the State (6 points).

(9) How the State will ensure the Subgrantee implements culturally and linguistically responsive outreach and communication efforts to enroll children from families with Eligible Children, including isolated or hard-to-reach families; helps families build protective factors; and engages parents and families (e.g., builds capacity to support children's learning and development) as decision-makers in their children's education (4 points).

(10) How the State will ensure strong partnerships between each Subgrantee and LEAs or other Early Learning Providers, as appropriate, including a description of how the State will ensure that each Subgrantee (10 points)—

(a) Partners with LEAs or other Early Learning Providers, as appropriate, to carry out activities that provide children and their families with successful transitions from preschool into kindergarten; and

(b) Coordinates and collaborates with LEAs or other Early Learning Providers, as appropriate, in—

(i) Providing opportunities for early educators to participate in professional development on early learning and kindergarten standards, assessments, curricula, and culturally and linguistically responsive strategies to help families build protective factors, build parents' capacity to support their children's learning and development, and engage parents as decision-makers in their children's education;

(ii) Providing family engagement, support, nutrition, and other Comprehensive Services and coordinating with other community partners to ensure families' access to needed supports;

(iii) Supporting full inclusion of Eligible Children with disabilities and developmental delays to ensure access to and full participation in the High-Quality Preschool Program;

(iv) Supporting the inclusion of children who may be in need of additional supports, such as children who are English learners; who reside on “Indian lands” as that term is defined by section 8013(7) of the ESEA; who are migrant; who are “homeless,” as defined in subtitle VII-B of the McKinney-Vento Act; who are in the child welfare system; who reside in rural areas; who are from military families; and other children as identified by the State;

(v) Ensuring that High-Quality Preschool Programs have age-appropriate facilities to meet the needs of Eligible Children;

(vi) Developing and implementing a systematic procedure for sharing data and other records consistent with Federal and State law; and

(vii) Utilizing community-based learning resources, such as libraries, arts and arts education programs, and family literacy programs.

Evidence for selection criterion (E):

• Any supporting evidence the State believes will be helpful to peer reviewers.

F. Alignment Within a Birth Through Third Grade Continuum (20 points)

The extent to which the State has an ambitious and achievable plan to align High-Quality Preschool Programs supported by this grant with programs and systems that serve children from birth through third grade to, among other things, improve transitions for children across this continuum.

(1) For birth through age-five programs, these activities include—

(a) Coordinating with other early education and care programs and child care family service providers supported through Federal, State, and local resources to build a strong continuum of learning for children from birth through age five and their families that expands families' choices, facilitates or improves their access to programs and supports in their own communities, and engages all families with Eligible Children, including isolated or hard-to-reach families that might not otherwise participate; and

(b) Ensuring that the provision of High-Quality Preschool Programs will not lead to a diminution of other services or increased cost to families for programs serving children from birth through age five; and

(2) For kindergarten through third grade, these activities may include—

(a) Ensuring that Eligible Children are well-prepared for kindergarten;

(b) Sustaining the educational and developmental gains of Eligible Children by—

(i) Promoting collaboration between preschool and kindergarten teachers;

(ii) Expanding access to Full-Day kindergarten; and

(iii) Increasing the percentage of children who are able to read and do math at grade level by the end of third grade; and

(c) Sustaining a high level of parent and family engagement as children move from High-Quality Preschool Programs into the early elementary school years;

(d) Taking steps, or building upon the steps it has taken, to align, at a minimum—

(i) Child learning standards and expectations;

(ii) Teacher preparation, credentials, and workforce competencies;

(iii) Comprehensive Early Learning Assessment Systems;

(iv) Data systems; and

(v) Family engagement strategies.

Evidence for selection criterion (F):

• Any supporting evidence the State believes will be helpful to peer reviewers.

G. Budget and Sustainability (10 points)

The extent to which the budget narrative and budget tables demonstrate that the State will—

(1) Use the funds from this grant and any matching contributions to serve the number of children described in its ambitious and achievable plan for each year, including using the funds for the projected per child costs for new and improved State Preschool Program slots that are reasonable and sufficient, and that the projected per child costs for new and improved State Preschool Program slots are reasonable and sufficient to ensure High-Quality Preschool Programs;

(2) Coordinate the use of existing funds from Federal sources that support early learning and development, such as title I of the ESEA, part C and section 619 of part B of IDEA, subtitle VII-B of the McKinney-Vento Act, the Head Start Act, and the Child Care and Development Block Grant Act of 1990, and State, private, local, foundation, or other private funding sources for activities and services that help expand High-Quality Preschool Programs; and

(3) Sustain the High-Quality Preschool Programs supported by this grant after the grant period ends to ensure that the number and percentage of Eligible Children with access to High-Quality Preschool Programs in the State will be maintained or expanded, including to additional High-Need Communities.

Evidence for selection criterion (G):

• Budget narrative and budget tables.

• Any other supporting evidence the State believes will be helpful to peer reviewers.

2. Review and Selection Process: The Departments will screen applications that are received by the deadline for transmittal of applications and will determine which States are eligible based on whether they have met the eligibility requirements in section III (Eligibility Information) of this notice; the Departments will not consider further those applicants deemed ineligible.

The Departments intend to use a peer review process with panels of three reviewers per application. Review panels will be created based on the number of applications received. All applicants will receive their reviewers' comments and scores.

In selecting grantees, the Secretaries may consider high-ranking applications meeting Absolute Priority 2 and Absolute Priority 3 separately to ensure that a variety of States benefit from the Preschool Development Grants program and that States that have received Race to the Top—Early Learning Challenge awards are not unfairly advantaged in this competition.

We remind potential applicants that in reviewing applications in any discretionary grant competition, the Secretary of Education may consider, under 34 CFR 75.217(d)(3), the past performance of the applicant in carrying out a previous reward, such as the applicant's use of funds, achievement of project objectives, and compliance with grant conditions. The Secretary of Education may also consider whether the applicant failed to submit a timely performance report or submitted a report of unacceptable quality.

In addition, in making a competitive grant award, the Secretary of Education also requires various assurances, including those applicable to Federal civil rights laws that prohibit discrimination in programs or activities receiving Federal financial assistance from the Department of Education (34 CFR 100.4, 104.5, 106.4, 108.8, and 110.23).

We intend to post all submitted applications (both successful and unsuccessful) on ED's Web site, together with the final scores each application received. We will post each reviewer's final scores and comments on reviewed applications, with the names of reviewers redacted.

3. Special Conditions: Under 34 CFR 74.14 and 80.12, the Secretary of Education may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Departments. If you receive a multi-year award, you must submit an annual performance report that provides the most current performance and financial expenditure information as directed by the Secretary of Education under 34 CFR 75.118. The Secretary of Education may also require more frequent performance reports under 34 CFR 75.720(c). For specific requirements on reporting, please go to www.ed.gov/fund/grant/apply/appforms/appforms.html.

4. Performance Measures: Under the Government Performance and Results Act of 1993 (GPRA), the Departments have developed the following performance measures for measuring the overall effectiveness of this program:

(1) The number and percentage of Eligible Children served in High-Quality Preschool Programs funded by the grant;

(2) The number and percentage of children served overall in the State Preschool Program; and

(3) The number and percentage of children in the High-Need Communities served by the grant that are ready for kindergarten as determined by the State's Kindergarten Entry Assessment or, if the State does not yet have a Kindergarten Entry Assessment, other valid and reliable means of determining school readiness.

5. Continuation Awards: Grants awarded under this competition may be for a project period of up to four years. Depending on the availability of funds, the Departments will make continuation awards for years two, three, and four of the project period in accordance with section 75.253 of EDGAR (34 CFR 75.253). Consistent with this provision, the Departments will determine the extent to which a grantee has made “substantial progress toward meeting the objectives in its approved application,” which will include a review of a grantee's progress in meeting the targets and projected outcomes in its approved application, and whether the grantee has expended funds in a manner that is consistent with its approved application and budget. To ensure that continuation funds will be used only for high-quality and effective projects, in determining whether or not to award continuation grants, the Departments will also consider the extent to which the grantee is achieving the intended outcomes of the grant and progress in areas demonstrates the following:

(a) The development, enhancement, or expansion of High-Quality Preschool Programs in each designated High-Need Community to be served by each Subgrantee, including in the improvement of the State Preschool Program's infrastructure, and in the development of community partnerships, needed to ensure the delivery of High-Quality Preschool Programs to participating Eligible Children and their families and the culturally and linguistically appropriate outreach activities and procedures needed to encourage and maintain enrollment of children in isolated or otherwise hard-to-reach families in the designated communities;

(b) Holding each Subgrantee accountable for fully adhering to all the program quality components that are part of the definition of a High-Quality Preschool Program;

(c) Coordination of Federal and State funds and programs to support a coherent approach to effective High-Quality Preschool Programs and supporting and engaging parents;

(d) Providing high-quality technical assistance to each Subgrantee and implementing a rigorous monitoring process to ensure the delivery of High-Quality Preschool Programs;

(e) Collecting, analyzing, and using high-quality and timely data, especially on Subgrantee program quality, including data regarding program outcomes, family engagement, school readiness of Eligible Children in High-Quality Preschool Programs, and student progress through third grade;

(f) Improvement on the program performance measures, to the extent such data are available;

(g) Holding each Subgrantee accountable for engaging and supporting parents, helping them build protective factors, facilitating families' links to services in their community, enhancing their capacity to support their children's education and development, and involving parents in decisions about their children's education; and

(h) If applicable, obtaining and expending matching contributions as described in its application.

In making a continuation grant, the Secretary of Education also considers whether the grantee is operating in compliance with the assurances in its approved application, including those applicable to Federal civil rights laws that prohibit discrimination in programs or activities receiving Federal financial assistance from the Department of Education (34 CFR 100.4, 104.5, 106.4, 108.8, and 110.23).

VII. Agency Contact

FOR FURTHER INFORMATION CONTACT: Rebecca Marek, U.S. Department of Education, 400 Maryland Ave. SW., Room 3E344, Washington, DC 20202-6200. Telephone: 202-260-0968 or by email: PreschoolDevelopmentGrants.Competition@ed.gov.

If you use a TDD or a TTY, call the FRS, toll free, at 1-800-877-8339.

VIII. Other Information

Accessible Format: Individuals with disabilities can obtain a copy of the application package in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or PDF. To use PDF you must have Adobe Acrobat Reader, which is available free at the site.

You may also access documents of the Department published in the Federal Register by using the article search feature at: www.federalregister.gov. Specifically, through the advanced search feature at this site, you can limit your search to documents published by the Department.

Dated: August 12, 2014.
Deborah S. Delisle,
Assistant Secretary for Elementary and Secondary Education, U.S. Department of Education.
Mark Greenberg,
Assistant Secretary for Children and Families, U.S. Department of Health and Human Services.

Appendix A—Scoring Rubric

I. Introduction

To help ensure inter-reviewer reliability and transparency for the Preschool Development Grants—Expansion Grant applicants, the Departments have created and are publishing a rubric for scoring State applications. The pages that follow detail the rubric and allocation of point values that reviewers will be using. The rubric will be used by reviewers to ensure consistency across and within review panels.

The rubric allocates points to each selection criterion. In all, the Preschool Development Grants—Expansion Grant scoring rubric includes seven selection criteria and three competitive preference priorities. These collectively add up to 230 points.

Reviewers will be required to make thoughtful judgments about the quality of a State's application and will be assessing, based on the selection criteria, the comprehensiveness, feasibility, and likely impact of the State's application. Reviewers will also be asked to evaluate, for example, the extent to which the State has set ambitious and achievable annual targets in its application. Reviewers will also need to make informed judgments about the State's goals, the activities the State has chosen to undertake, and the timelines and credibility of the State's plan.

This appendix includes information about the point values for each selection criterion and priority, guidance on scoring, and the rubric that we will provide to reviewers.

II. Points Overview

The chart below shows the maximum number of points and the percent of total points available that are assigned to each selection criterion.

Preschool development grants—expansion grants: points overview | Points available | Percent
A. Executive Summary
(A)(1) The State's progress to date.
(A)(2) Provide High-Quality Preschool Programs in two or more High-Need Communities.
(A)(3) Increase the number and percentage of Eligible Children served in High-Quality Preschool Programs.
(A)(4) Characteristics of High-Quality Preschool Programs.
(A)(5) Set expectations for school readiness.
(A)(6) Supported by a broad group of stakeholders.
(A)(7) Allocate funds between—
(a) Activities to build or enhance infrastructure using no more than 5% of funds; and
(b) Subgrants using at least 95% of funds.
Subtotal | 10 | 5
B. Commitment to State Preschool Programs
(B)(1) Early Learning and Development Standards | 2 | 1
(B)(2) State's financial investment | 6 | 3
(B)(3) Enacted and pending legislation, policies, and/or practices | 4 | 2
(B)(4) Quality of existing State Preschool Programs | 4 | 2
(B)(5) Coordination of preschool programs and services | 2 | 1
(B)(6) Role in promoting coordination of preschool programs with other sectors | 2 | 1
Subtotal | 20 | 10
C. Ensuring Quality in Preschool Programs
(C)(1) Use no more than 5% of funds for infrastructure and quality improvements | 8 | 4
(C)(2) Implement a system for monitoring | 10 | 5
(C)(3) Measure the outcomes of participating children | 12 | 6
Subtotal | 30 | 15
D. Expanding High-Quality Preschool Programs in Each High-Need Community
(D)(1) How the State has selected each Subgrantee and each High-Need Community | 8 | 4
Note: Applicants with federally designated Promise Zones must propose to serve and coordinate with a High-Need Community in that Promise Zone in order to be eligible for up to the full 8 points. If they do not, they are eligible for up to 6 points. Applicants that do not have federally designated Promise Zones in their State are eligible for up to the full 8 points
(D)(2) How each High-Need Community is currently underserved | 8 | 4
(D)(3) How the State will conduct outreach to potential Subgrantees | 4 | 2
(D)(4) How the State will subgrant at least 95% of its Federal grant award to its Subgrantee or Subgrantees to implement and sustain voluntary, High-Quality Preschool Programs in two or more High-Need Communities, and—
(a) Set ambitious and achievable targets; and | 16 | 8
(b) Incorporate in their plan—
(i) Expansion of the number of new high-quality State Preschool Program slots; and
(ii) Improvement of existing State Preschool Program slots
Note: Applicants may receive up to the full 12 points if they address only (D)(4)(b)(i) or (b)(ii) or if they address both (D)(4)(b)(i) and (b)(ii); | 12 | 6
(5) How the State, in coordination with the Subgrantees, plans to sustain High-Quality Preschool Programs after the grant period | 12 | 6
D. Subtotal | 60 | 30
E. Collaborating with Each Subgrantee and Ensuring Strong Partnerships
(E)(1) Roles and responsibilities of the State and Subgrantee in implementing the project plan | 2 | 1
(E)(2) How High-Quality Preschool Programs will be implemented | 6 | 3
(E)(3) How the Subgrantee will minimize local administrative costs | 2 | 1
(E)(4) How the State and Subgrantee will monitor Early Learning Providers | 4 | 2
(E)(5) How the State and the Subgrantee will coordinate plans | 4 | 2
(E)(6) How the State and the Subgrantee will coordinate, but not supplant, the delivery of High-Quality Preschool Programs funded under this grant with existing services for preschool-aged children | 6 | 3
(E)(7) How the Subgrantees will integrate High-Quality Preschool Programs for Eligible Children within economically diverse, inclusive settings | 6 | 2
(E)(8) How the Subgrantees will deliver High-Quality Preschool Programs to Eligible Children who may be in need of additional supports | 6 | 3
(E)(9) How the State will ensure outreach to enroll isolated or hard-to-reach families; help families build protective factors; and engage parents and families | 4 | 2
(E)(10) How the State will ensure strong partnerships between each Subgrantee and LEAs or other Early Learning Providers | 10 | 5
Subtotal | 50 | 25
F. Alignment within a Birth Through Third Grade Continuum
(F)(1) Birth through age-five programs
(F)(2) Kindergarten through third grade
Subtotal | 20 | 10
G. Budget and Sustainability
(G)(1) Use the funds from this grant and any matching contributions to serve the number of Eligible Children described in its ambitious and achievable plan each year
(G)(2) Coordinate the uses of existing funds from Federal sources that support early learning and development
(G)(3) Sustain the High-Quality Preschool Programs provided by this grant after the grant period ends
Subtotal | 10 | 5
Total Points Available for Selection Criteria | 200 | 100
Competitive Priority 1: Contributing Matching Funds | 10
Competitive Priority 2: Supporting a Continuum of Early Learning and Development | 10
Competitive Priority 3: Creating New High-Quality State Preschool Program Slots | 0 or 10
Total for All Priorities | 30
Grand Total | 230

III. About Scoring

General Notes About Scoring

Ambitious and Achievable. In determining whether a State has ambitious and achievable goals or targets for a given selection criterion, reviewers will examine the State's goals or targets in the context of the State's plan and the evidence submitted (if any) in support of the plan. Reviewers will not be looking for any specific targets nor will they necessarily reward higher targets above lower ones with higher scores. Rather, reviewers will reward States for developing goals and targets that, in light of each State's plan and the current context and status of the work in that State, are shown to be ambitious and achievable.

Additionally, there is a term that we use repeatedly in the notice: Ambitious and achievable plan. This is an anchor term for applicants to understand and reviewers to use in guiding their scoring. In determining the quality of a State's plan for a given selection criterion or competitive preference priority, reviewers will assess the extent to which the plan is ambitious and achievable, including whether it is feasible and has a high probability of successful implementation and contains the following components—

(1) The key goals of the plan;

(2) The key activities to be undertaken; the rationale for the activities; and, if applicable, where in the State the activities will be initially implemented, and where and how they will be scaled up over time;

(3) A realistic timeline, including key milestones, for implementing each key activity;

(4) The party or parties responsible for implementing each activity and other key personnel assigned to each activity;

(5) Appropriate financial resources to support successful implementation and sustainment of the plan;

(6) The information requested as supporting evidence, if any, together with any additional information the State believes will be helpful to peer reviewers in judging the credibility of the plan;

(7) The information requested in the performance measures, where applicable; and

(8) How the State will address the needs of Eligible Children, including those who may be in need of additional supports, such as children who have disabilities or developmental delays; who are English learners; who reside on “Indian lands” as that term is defined by section 8013(7) of the ESEA; who are migrant; who are “homeless,” as defined in subtitle VII-B of the McKinney-Vento Act; who are involved in the child welfare system; who reside in rural areas; who are from military families; and any other children identified by the State.

Rubric

The following scoring rubric will be used to guide the reviewers in scoring selection criteria and priorities. (See “General Notes about Scoring” for more information about how reviewers will assess ambitious and achievable plans.)

| Percentage of available points awarded
High-quality response | 80-100
Medium/high-quality response | 50-80
Medium/low-quality response | 20-50
Low-quality response | 0-20

About Priorities

There are two types of priorities in the Preschool Development Grants—Expansion Grant competition: absolute and competitive.

• Applicants must address Absolute Priority 1 the absolute priorities throughout their applications; they do not write separately to this priority. It will be assessed, after the proposal has been fully reviewed and evaluated, to ensure that the application has met the priority. Absolute Priority 1 must be met in order for an applicant to receive funding. If an application has not met the priority, it will be eliminated from the competition. A State meets the absolute priority if a majority of reviewers determines that the State has met the absolute priority. Absolute Priorities 2 and 3 are not judged by peer reviewers.

• Applicants may choose whether to address the competitive preference priorities. Additional points will be awarded to an application to the extent that reviewers determine it has met a competitive preference priority. Applicants earn points under the competitive preference priorities in a manner similar to how they earn points under the selection criteria.

○ Competitive Preference Priority 1 (Contributing Matching Funds) is worth up to 10 points.

State match of projected four-year total award amount | Possible points
50% or more | 10
40% to 49% | 8
30% to 39% | 6
20% to 29% | 4
10% to 19% | 2
Less than 10% | 0

○ Competitive Preference Priority 2 (Supporting a Continuum of Early Learning and Development) is worth up to 10 points.

○ Competitive Preference Priority 3 (Creating New High-Quality State Preschool Program Slots) is worth 0 or 10 points. If the applicant proposes to use at least 50 percent of its Federal grant award to create new State Preschool Program slots, 10 points will be awarded.

In the Event of a Tie

If two or more applications have the same score and there is not sufficient funding to support all of the tied applicants, the applicants' overall scores on Selection Criterion (D) will be used to break the tie.

Appendix B—Subgrantee

Model Memorandum of Understanding

States do not need to submit Memoranda of Understanding (MOU) from each Subgrantee at the time of application, but, if awarded funds, States that receive Preschool Development Grants—Expansion Grants will have 90 days to submit signed MOUs or other binding agreements from each Subgrantee (see Program Requirement (i)). However, as stated in Application Requirement (e), States applying for Preschool Development Grants—Expansion Grants must submit a letter of support or preliminary MOU or other preliminary binding agreement from each Subgrantee identified in its application. The following is an example of a final agreement.

Background for Memorandum of Understanding

Within 90 days of receipt of a Preschool Development Grants—Expansion Grant award, the State must submit to the Departments a final signed MOU or other binding agreement with each Subgrantee. The purpose of the MOU or other binding agreement is to define a relationship between the State's Lead Agency and the Subgrantee that is specific to the Preschool Development Grants—Expansion Grant Competition; the MOU or other binding agreement is not meant to detail all typical aspects of grant coordination or administration.

To support States in working efficiently with their Subgrantees to affirm each Subgrantee's participation in the State Plan, the Departments have produced a model MOU, which is attached. This model MOU may serve as a template for States; however, States are not required to use it. States may use a document other than the model MOU, as long as it includes the key features noted below and in the model MOU. States should consult with their State attorneys on what is most appropriate. States may allow multiple Subgrantees to sign a single MOU or other binding agreement, with customized exhibits for each Subgrantee, if the State so chooses.

At a minimum, a Preschool Development Grants--Expansion Grant MOU or other binding agreement should include the following key features, each of which is described in detail below and exemplified in the attached model MOU: (i) Terms and conditions; (ii) a scope of work; and (iii) authorized signatures.

(i) Terms and conditions: Each Subgrantee must sign a standard set of terms and conditions that includes, at a minimum: Key roles and responsibilities of the Lead Agency and the Subgrantee; method and process for making different types of decisions; mechanism for exchanging of data; the Subgrantee's role in implementing the State's ambitious and achievable plan; State recourse for non-performance by the Subgrantee; and assurances that make clear what the Subgrantee is agreeing to do.

(ii) Scope of work: Preschool Development Grants--Expansion Grants MOUs or other binding agreements must include a scope of work (included in the model MOU as Exhibit I) that is completed by each Subgrantee. The scope of work must be signed and dated by an authorized Subgrantee official and an authorized Lead Agency official. The scope of work for the State and the Subgrantee, which must contain detailed work plans and budgets consistent with the State's grant application, must include the State's and each Subgrantee's specific goals, activities, timelines, budgets, key personnel, and annual targets for key performance measures for the portions of the State's proposed plans that the Subgrantee is agreeing to implement.

(iii) Authorized Signatures: The signatures on the MOU or other binding agreement demonstrate an acknowledgement of the relationship between the Subgrantee and the Lead Agency. With respect to the relationship between the Subgrantee and the Lead Agency, the Lead Agency's counter-signature on the MOU or other binding agreement indicates that the Subgrantee's commitment is consistent with the requirement that a Subgrantee implement all applicable portions of the State Plan.

Model Subgrantee Memorandum of Understanding

(To be submitted 90 days after State receives award)

This Memorandum of Understanding (“MOU”) is entered into by and between _____ (“Lead Agency”) and _____ (“Subgrantee”). The purpose of this agreement is to establish a framework of collaboration, as well as articulate specific roles and responsibilities in support of the State in its implementation of an approved Preschool Development Grants--Expansion Grant.

I. Assurances

The Subgrantee hereby certifies and represents that it:

(1) Agrees to implement those portions of the State Plan indicated in Exhibit I.

(2) Has all requisite power and authority to execute and fulfill the terms of this MOU;

(3) Is familiar with the State's Preschool Development Grants—Expansion Grant Application and is supportive of and committed to working on all applicable portions of the State Plan;

(4) Will implement the Scope of Work in Exhibit I consistent with the Budget included in section VIII of the State Plan (including existing funds, if any, that the Subgrantee is using for activities and services that help achieve the outcomes of the State Plan); and

(5) Will comply with all of the terms of the Preschool Expansion Grants--Expansion Grant, this agreement, and all applicable Federal and State laws and regulations, including laws and regulations applicable to the Preschool Development Grants--Expansion Grant, and the applicable provisions of EDGAR (34 CFR parts 75, 77, 79, 80, 82, 84, 86, 97, 98 and 99), and the debarment and suspension regulations in 2 CFR part 3485.

II. Project Administration

A. Subgrantee Responsibilities

In assisting the Lead Agency in implementing the tasks and activities described in the State's Preschool Development Grants—Expansion Grant application, the Subgrantee will:

(1) Implement the Subgrantee Scope of Work as identified in Exhibit I of this agreement;

(2) Make arrangements for High-Quality Preschool programs to be provided by Early Learning Providers and will appropriately monitor such entities;

(3) Abide by the State's Budget included in section VIII of the State Plan (including the existing funds from Federal, State, private, and local sources, if any, that the Subgrantee is using to achieve the outcomes in the Preschool Development Grants--Expansion Grant Plan) and with the Subgrantee's Budget included in Exhibit II of this agreement;

(4) Actively participate in all relevant meetings or other events that are organized or sponsored by the State, by the U.S. Department of Education (“ED”), or by the U.S. Department of Health and Human Services (“HHS”);

(5) Post to any Web site specified by the State, ED, or HHS, in a timely manner, all non-proprietary products and lessons learned developed using Federal funds awarded under the Preschool Development Grants—Expansion Grant;

(6) Participate, as requested, in any evaluations of this grant conducted by the State, ED, or HHS;

(7) Be responsive to State, ED, or HHS requests for project information including on the status of the project, project implementation, outcomes, and any problems anticipated or encountered, consistent with applicable local, State, and Federal privacy laws;

(8) Provide researchers with access, consistent with requirements of all applicable Federal, State, and local privacy laws, to available data regarding the enrollment and school readiness of Eligible Children in State Preschool Programs;

(9) Implement culturally and linguistically responsive outreach and communication efforts to enroll isolated or hard-to-reach families; help families build protective factors; and engage parents and families as decision-makers in their children's education;

(10) Minimize local administrative costs; and

(11) Partner with LEAs or other Early Learning Providers, as appropriate, to carry out activities that will provide children and their families with successful transitions from preschool into kindergarten.

B. Lead Agency Responsibilities

In assisting the Subgrantee in implementing its tasks and activities described in the Preschool Development Grants—Expansion Grant application, the Lead Agency will:

(1) Work collaboratively with the Subgrantee and support the Subgrantee in carrying out the Subgrantee's Scope of Work, as identified in Exhibit I of this agreement;

(2) Award in a timely manner the portion of Preschool Development Grants--Expansion Grant funds designated for the Subgrantee in the Plan during the course of the project period and in accordance with the Subgrantee Scope of Work, as identified in Exhibit I, and in accordance with the Subgrantee's Budget, as identified in Exhibit II;

(3) Provide feedback on the Subgrantee's status updates, any interim reports, and project plans and products;

(4) Keep the Subgrantee informed of the status of the State's Preschool Development Grants—Expansion Grant project and seek input from the Subgrantee, where relevant to the portion of the State plan that the Subgrantee is implementing;

(5) Facilitate coordination across Subgrantees necessary to implement the State Plan;

(6) Identify sources of technical assistance for the project; and

(7) Monitor Subgrantee's Implementation of High-Quality Preschool Programs.

C. Joint Responsibilities

(1) The Lead Agency and the Subgrantee will implement the State Plan consistent with the description of the roles and responsibilities outlined in the State's application and in the Scope of Work in Exhibit I;

(2) The Lead Agency and the Subgrantee will each appoint a key contact person for the Preschool Development Grants—Expansion Grant;

(3) These key contacts from the Lead Agency and the Subgrantee will maintain frequent communication to facilitate cooperation under this MOU, consistent with the State Plan and governance structure.

(4) Lead Agency and Subgrantee personnel will work together to determine appropriate timelines for project updates and status reports throughout the grant period;

(5) Lead Agency and Subgrantee personnel will negotiate in good faith toward achieving the overall goals of the State's Preschool Development Grants—Expansion Grant, including when the State Plan requires modifications that affect the Subgrantee, or when the Subgrantee's Scope of Work requires modifications;

(6) The Lead Agency and the Subgrantee will devise plans to sustain High-Quality Preschool Programs after the grant period, including any non-Federal support that the State or Subgrantees plan to contribute;

(7) The Lead Agency and the Subgrantee will coordinate plans related to assessments, data sharing, instructional tools, family engagement, cross-sector and comprehensive services efforts, professional development, and workforce and leadership development; and

(8) The Lead Agency and the Subgrantee will coordinate, but not supplant, the delivery of High-Quality Preschool Programs funded under this grant with existing services for preschool-aged children including, if applicable, programs and services supported through title I of the ESEA, part C and section 619 of part B of IDEA, subtitle VII-B of the McKinney-Vento Act, the Head Start Act, and the Child Care and Development Block Grant Act.

D. State Recourse in the Event of Subgrantee's Failure To Perform

If the Lead Agency determines that the Subgrantee is not meeting its goals, timelines, budget, or annual targets, or is in some other way not fulfilling applicable requirements, the Lead Agency will take appropriate enforcement action, which could include initiating a collaborative process by which they attempt to resolve the disagreements between the Lead Agency and the Subgrantee, or initiating such enforcement measures as are available to the Lead Agency, under applicable State or Federal law.

III. Modifications

This Memorandum of Understanding may be amended only by written agreement signed by each of the parties involved, in consultation with ED and HHS.

IV. Duration

This Memorandum of Understanding shall be effective, beginning with the date of the last signature hereon and ending upon the expiration of the Preschool Development Grants—Expansion Grant project period.

V. Signatures

Authorized Representative of Lead Agency:

Signature Date

Print Name Title

Authorized Representative of Subgrantee:

Signature Date

Print Name Title

Exhibit I—State Lead Agency and Subgrantee Scope of Work

The State Lead Agency and Subgrantee hereby agrees to participate in the State Plan, as described in the State's application, and more specifically commits to undertake the tasks and activities described in detail below. In addition, the Lead Agency and Subgrantee will collaborate to establish Performance Measures for any aspects of the State's plan that the Subgrantee is implementing.

Selection criterion | Participating party | Type of participation | Performance measure (if applicable)
Example Row—shows an example of criterion (E)(10)(b)(ii) for the Subgrantees | • Subgrantees | Providing family engagement, support, nutrition, and other Comprehensive Services and coordinating with other community partners to ensure families' access to needed supports
Example Row—shows an example of criterion (F)(2)(d)(i) for the State Lead Agency | • State Lead Agency | Taking steps, or building upon the steps it has taken, to align, at a minimum— (i) Child learning standards and expectations |
(D)(4)
(D)(5)
(E)(1)
(E)(2)
(E)(3)
(E)(4)
(E)(5)
(E)(6)
(E)(7)
(E)(8)
(E)(9)
(E)(10)
(F)(1)
(F)(2)
(G)(1)
(G)(2)
(G)(3)

Exhibit II—Subgrantee Budget

The MOU must contain a Subgrantee budget clearly explaining how each Subgrantee will expend funds, including any matching funds, if applicable. The State and each Subgrantee must update the budgets submitted in Part VII of the application and submit them as part of the MOU.

Signature Date

(Authorized Representative of Lead Agency)

Signature Date

(Authorized Representative of Subgrantee, if applicable)

Signature Date

(Authorized Representative of Subgrantee, if applicable)

[FR Doc. 2014-19427 Filed 8-15-14; 8:45 am]

BILLING CODE 4000-01-P